DEPARTMENT OF AGRICULTURE

Forest Service

White River National Forest; and Grand Mesa, Uncompahgre, and Gunnison National Forests; Bull Mountain Natural Gas Pipeline

Correction

In notice document 05-17179 beginning on page 51329 in the issue of Tuesday, August 30, 2005, make the following corrections:

1. On page 51329, in the second column, the third line from the bottom, “are” should read “area”.

2. On the same page, in the third column, in the first full paragraph, in the second line “252.5 miles” should read “25.5 miles”.

3. On the same page, in the same column, in the same paragraph, in the sixth line, “Grad” should read “Grand”.

4. On the same page, in the same column, in the same paragraph, in the 10th line, “in” should read “on”.

5. On the same page, in the same column, in the same paragraph, in the 18th line, “connects the” should read “connects to the ”.

6. On the same page, in the same column, in the second paragraph, in the second line, “proposal” should read “proposed”.

7. On page 51330, in the third column, in the 25th line from the top, “39 part 192” should read “49 part 192”.

8. On page 51331, in the first column, in the third paragraph, in the ninth line, “its” should read “it”.

9. On page 51332, in the first column, under the heading “Lead and Cooperating Agencies ” in the second line “NRPA” should read “NEPA”.

[FR Doc. C5-17179 Filed 9-9-05; 8:45 am]

BILLING CODE 1505-01-D